ELECTION ASSISTANCE COMMISSION

Sunshine Act Notice

AGENCY: Election Assistance Commission.

ACTION: Notice of public meeting.

DATES & TIME: Wednesday, February 23, 2005, 10 a.m.-11:30 a.m.

PLACE: Michael E. Moritz college of Law, The Ohio State University, 55 W. 12th Ave., Saxbe Auditorium, Columbus, OH 43210-1391.

AGENDA: The Commission will receive reports on the following: Updates on Title II Requirements Payments and other administrative or programmatic matters. The Commission will receive presentations on the following: Transition of the voting System Certification Process to EAC and the Transition of The Lab Certification Process to NIST and EAC.

FOR FURTHER INFORMATION CONTACT: Bryan Whitener, Telephone: (202) 566-3100.

Ray Martinez III,
Commissioner, U.S. Election Assistance Commission.

[FR Doc. 05-2564 Filed 2-7-05; 9:03 am]

BILLING CODE 6820-YN-M